DEPARTMENT OF AGRICULTURE

Agricultural Marketing Service

[Document No. AMS-ST-14-0083]

Plant Variety Protection Board; Renewal of the Plant Variety Protection Board Charter

AGENCY: Agricultural Marketing Service, USDA.

ACTION: Notice.

SUMMARY: In accordance with the Federal Advisory Committee Act (FACA) (5 U.S.C. App.), this notice announces that the Secretary of Agriculture intends to renew the Plant Variety Protection Board (PVP Board).

FOR FURTHER INFORMATION CONTACT: Paul Zankowski, USDA, Agricultural Marketing Service (AMS), Plant Variety Protection Office; 1400 Independence Avenue SW., Room 4512; Washington, DC 20250 or by phone at (202) 720-1128 or by Internet: http://www.regulations.gov or by email: Paul.Zankowski@ams.usda.gov.

SUPPLEMENTARY INFORMATION: The Plant Variety Protection Act (PVPA) (7 U.S.C. 2321 et seq.) provides legal protection in the form of intellectual property rights to developers of new varieties of plants, which are reproduced sexually by seed or are tuber-propagated. A Certificate of Plant Variety Protection is awarded to an owner of a crop variety after an examination shows that it is new, distinct from other varieties, and genetically uniform and stable through successive generations. The term of protection is 20 years for most crops and 25 years for trees, shrubs, and vines.

The PVPA also provides for a statutory Board (7 U.S.C. 2327) to be appointed by the Secretary of Agriculture. The duties of the Board are to: (1) Advise the Secretary concerning the adoption of rules and regulations to facilitate the proper administration of the Act; (2) provide advisory counsel to the Secretary on appeals concerning decisions on applications by the PVP Office and on requests for emergency public-interest compulsory licenses; and (3) advise the Secretary on any other matters under the Regulations and Rules of Practice and on all questions under section 44 of the Act, “Public Interest in Wide Usage” (7 U.S.C. 2404). Renewing the PVP Board is necessary and in the public interest.

The PVPA provides that “the Board shall consist of individuals who are experts in various areas of varietal development covered by this Act.” The Board membership “shall include farmer representation and shall be drawn approximately equally from the private or seed industry sector and from the sector of government or the public.” The Board consists of 14 members, each of whom is appointed for a 2-year period, with no member appointed for more than three 2-year periods. Nominations are made by farmers' associations, trade associations in the seed industry, professional associations representing expertise in seed technology, plant breeding, and variety development, public and private research and development institutions (13 members) and the USDA (one member).

Equal opportunity practices, in agreement with USDA nondiscrimination policies, will be followed in all membership appointments to the Board. To ensure that the suggestions of the Board have taken into account the needs of the diverse groups served by USDA, membership shall include, to the extent practicable, individuals with demonstrated ability to represent minorities, women, and persons with disabilities.

The Charter for the PVP Board will be available on the Web site at: http://www.facadatabase.gov/download.aspx?fn=Charters/1309_2013.09.11_PVPBCharter2.7.13_(2013-09-11-05-03-31).pdf or may be requested by contacting the individual identified in the FOR FURTHER INFORMATION CONTACT section of this notice.

USDA prohibits discrimination in all its programs and activities on the basis of race, color, national origin, gender, religion, age, disability, political beliefs, sexual orientation, and marital or family status. Persons with disabilities who require alternative means for communication of program information (Braille, large print, or audiotape) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Dated: February 23, 2015.
Rex A. Barnes,
Associate Administrator, Agricultural Marketing Service.

[FR Doc. 2015-04086 Filed 2-26-15; 8:45 am]

BILLING CODE 3410-02-P